DEPARTMENT OF HEALTH AND HUMAN SERVICES

Centers for Disease Control and Prevention

[Program Announcement 02105]

Enhancement of Surveillance for Trimethoprim-Sulfamethoxazole Resistant Invasive Respiratory and Diarrheal Disease in South Africa; Notice of Award of Funds

A. Purpose

The Centers for Disease Control and Prevention (CDC) announces the award of fiscal year (FY) 2002 funds for a cooperative agreement program for Enhancement of Surveillance for Trimethoprim-Sulfamethoxazole Resistant Invasive Respiratory and Diarrheal Disease in South Africa. This program addresses the “Healthy People 2010” focus area Immunization and Infectious Diseases.

The purpose of the program is to strengthen surveillance for key respiratory and diarrheal disease episodes in order to facilitate program monitoring of the increased use of trimethoprim-sulfamethoxazole (cotrimoxazole) as part of care and support of persons with Human Immunodeficiency Virus (HIV/AIDS). Enhanced sentinel hospital surveillance for bloodstream and cerebrospinal fluid infections caused by key Pathogens-Streptococcus Pneumoniae, Haemophilus Influenzae, and non-typhoidal Salmonella species will permit evaluation of trends in the occurrence of antimicrobial resistance in pediatric vs. adult infections, and estimation of temporal changes in the contribution of HIV/AIDS to the total burden of these respiratory and diarrheal diseases. Surveillance will also detect cases which occur despite adherence to cotrimoxazole prophylaxis and estimate the role of antimicrobial resistance in these episodes.

B. Eligible Applicants

Assistance will be provided only to the Respiratory and Meningeal Pathogens Laboratory (The Unit) of the National Health Laboratory Service, Department of Health, South Africa. No other applications are solicited.

The Respiratory and Meningeal Pathogens Laboratory of the National Health Laboratory Service is a Government organization and the only appropriate and qualified organization to conduct the specific surveillance activities due to the following:

1. The unit is uniquely positioned to conduct enhanced surveillance and has established contacts as well as laboratory and epidemiologic experiences that enable it to immediately become engaged in the activities listed in this announcement.

2. The Laboratory has been the National Reference Laboratory for pneumococci and Haemophilus Influenzae and has provided training to reference laboratories throughout Africa. The Unit was designated by the Government to coordinate national surveillance through sentinel laboratories for the major pathogens causing meningitis (pneumococcus, Haemophilus Influenzae, and Meningococcus). The infrastructure can be expanded with minimal difficulty to include non-typhoidal salmonella isolated from blood and cerebrospinal fluid and be enhanced to assure additional epidemiologic data are collected as part of sentinel surveillance.

3. The Unit has coordinated surveillance for trimethoprim-sulfamethoxazole resistance in respiratory and meningeal infections in sentinel hospitals located throughout South Africa.

4. The Unit has provided training of laboratory identification and characterization, including antimicrobial susceptibility testing, for meningitis agents including pneumococcus and Haemophilus Influenzae. Laboratory staff have provided national training as well as training of personnel from multiple other countries in Africa. The Enteric Pathogens Laboratory is expert at identification and susceptibility testing of nontyphoidal Salmonella, and has been designated part of the National Health Laboratory Service by the Government to serve in a reference capacity for these organisms.

5. The Unit and the National Health Laboratory Service already have established collaborations in place. The Unit operates under a memorandum of understanding between the Medical Research Council and CDC.

Note: Title 2 of the United States Code section 1611 states that an organization described in section 501(c)(4) of the Internal Revenue Code that engages in lobbying activities is not eligible to receive Federal funds constituting an award, grant or loan.

C. Availability of Funds

Approximately $250,000 is being awarded in FY 2002 to fund one award. It is expected that the award will begin on or about September 1, 2002, and will be made for a 12-month budget period within a project period of up to five years. The funding estimate may change.

Continuation award within an approved project period will be made on the basis of satisfactory progress as evidenced by required reports and the availability of funds.

D. Where To Obtain Additional Information

This and other CDC and the Agency for Toxic Substance and Disease Registry (ATSDR) announcements can be found on the CDC home page Internet address http://www.cdc.gov Click on “Funding” then “Grants and Cooperative Agreements.”

To obtain business management technical assistance, contact: Cynthia Collins, Grants Management Specialist, International & Territories Acquisition and Assistance Branch, Procurement and Grants Office, Centers for Disease Control and Prevention, 2920 Brandywine Road, Room 3000, Atlanta, GA 30341-4146, Telephone: (770) 488-2757, e-mail: coc9@cdc.gov.

For program technical assistance, contact: Anne Schuchat, MD, National Center for Infectious Diseases, Centers for Disease Control and Prevention, 1600 Clifton Road, NE., Atlanta, GA 30333, Telephone: (404) 639-2215, e-mail: acs1@cdc.gov.

Dated: October 9, 2002.
Edward Schultz,
Acting Director, Procurement and Grants Office, Centers for Disease Control and Prevention.

[FR Doc. 02-26527 Filed 10-17-02; 8:45 am]

BILLING CODE 4163-18-P